DEPARTMENT OF COMMERCE

National Oceanic and Atmospheric Administration

Proposed Information Collection; Comment Request; Applications and Reporting Requirements for the Incidental Take of Marine Mammals by Specified Activities (Other Than Commercial Fishing Operations) Under the Marine Mammal Protection Act (fka Applications and Reporting Requirements for the Incidental Take of Marine Mammals by Specified Activities Under the Marine Mammal Protection Act)

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 13, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jeannine Cody, (301) 713-2289 or Jeannine.Cody@noaa.gov.

SUPPLEMENTARY INFORMATION:

I. Abstract

The Marine Mammal Protection Act of 1972 (MMPA; 16 U.S.C. 1361 et. seq.) prohibits the “take” of marine mammals unless otherwise authorized or exempted by law. Among the provisions that allow for lawful take of marine mammals, sections 101(a)(5)(A) and (D) of the MMPA direct the Secretary of Commerce to allow, upon request, the incidental, but not intentional, taking of small numbers of marine mammals by U.S. citizens who engage in a specified activity (other than commercial fishing), within a specified geographical region, if certain findings are made and either regulations are issued or, if the taking is limited to harassment, a notice of a proposed authorization is provided to the public for review.

Authorization for incidental takings shall be granted: (1) If the Secretary, acting by delegation through the National Marine Fisheries Service (NMFS), finds that the taking will have a negligible impact on the species or stock(s) and will not have an unmitigable adverse impact on the availability of the species or stock(s) for subsistence uses (where relevant), and (2) if the permissible methods of taking and requirements pertaining to the mitigation, monitoring and reporting of such takings are set forth.

Issuance of an incidental take authorization (ITA) under section 101(a)(5)(A) or (D) of the MMPA requires three sets of information collection: (1) A complete application for an ITA, as set forth in NMFS' implementing regulations at 50 CFR 216.104, which provides the information necessary for NMFS to make the necessary statutory determinations; (2) information relating to required monitoring; and (3) information related to required reporting. These collections of information enable NMFS to: (1) Evaluate the proposed activity's impact on marine mammals; (2) arrive at the appropriate determinations required by the MMPA and other applicable laws prior to issuing the authorization; and (3) monitor impacts of activities for which take authorizations have been issued to determine if predictions regarding impacts on marine mammals were valid.

II. Method of Collection

Applicants may transmit an electronic application file or report (e.g. .doc or .pdf file) via e-mail, or deliver paper forms via hand delivery, the U.S. Postal Service, or by an overnight delivery service.

III. Data

OMB Control Number: 0648-0151.

Form Number: None.

Type of Review: Regular submission.

Affected Public: Non-profit institutions; state, local, or tribal government; business or other for-profit organizations.

Estimated Number of Respondents: 71.

Estimated Time per Response: 339 hours for an Incidental Harassment Authorization (IHA) application; 310 hours for an IHA interim report (if applicable); 422 hours for an IHA draft annual report; 163 hours for an IHA final annual report (if applicable); 1,100 hours for the initial preparation of an application for new regulations; 70 hours for an annual Letter of Authorization (LOA) application; 220 hours for a LOA draft annual report; 65 hours for a LOA final annual report (if applicable); 625 hours for a LOA draft comprehensive report; and 300 hours for a LOA final comprehensive report (if applicable). Response times will vary for the public based upon the complexity of the requested action.

Estimated Total Annual Burden Hours: 27,814.

Estimated Total Annual Cost to Public: $358,000 in capital costs (if applicable) and $3,575 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 10, 2010.
Gwellnar Banks,
Management Analyst, Office of the Chief Information Officer.

[FR Doc. 2010-11502 Filed 5-13-10; 8:45 am]

BILLING CODE 3510-22-P